NATIONAL AERONAUTICS AND SPACE ADMINISTRATION

[Notice 04-111]

NASA Space Science Advisory Committee, Solar System Exploration Subcommittee; Meeting

AGENCY: National Aeronautics and Space Administration (NASA).

ACTION: Notice of Meeting.

SUMMARY: The National Aeronautics and Space Administration announces a meeting of the NASA Space Science Advisory Committee (SScAC), Solar System Exploration Subcommittee (SSES).

DATES: Thursday, October 21, 2004, 8:30 a.m. to 5:30 p.m., and Friday, October 22, 2004, 8:30 a.m. to 12:30 p.m.

ADDRESSES: NASA Headquarters, Room 9H40, 300 E Street, SW., Washington, DC 20546.

FOR FURTHER INFORMATION CONTACT: Dr. Michael H. New, Science Mission Directorate, National Aeronautics and Space Administration, Washington, DC 20546, (202) 358-1766, michael.h.new@nasa.gov.

SUPPLEMENTARY INFORMATION: The meeting will be open to the public up to the seating capacity of the room. The agenda for the meeting is as follows:

• Status of Solar System Exploration

• Status of Mars Exploration Program

• Strategic Roadmaps Review Discussion

• Transformation and the Subcommittee Structure

Attendees will be requested to sign a register and to comply with NASA security requirements, including the presentation of a valid picture ID, before receiving an access badge. Foreign nationals attending this meeting will be required to provide the following information no less than 3 working days prior to the meeting: full name; gender; date/place of birth; citizenship; visa/green card information (number, type, expiration date); passport information (number, country, expiration date); employer/affiliation information (name of institution, address, country, phone); title/position of attendee. To expedite admittance, attendees with U.S. citizenship can provide identifying information in advance by contacting Marian Norris via email at mnorris@nasa.gov or by telephone at (202) 358-4452. It is imperative that the meeting be held on these dates to accommodate the scheduling priorities of the key participants.

R. Andrew Falcon,
Advisory Committee Management Officer, National Aeronautics and Space Administration.

[FR Doc. 04-22973 Filed 10-12-04; 8:45 am]

BILLING CODE 7510-13-P